NATIONAL SCIENCE FOUNDATION

Privacy Act of 1974; System of Records

AGENCY: National Science Foundation.

ACTION: Notice of a new system of records.

SUMMARY: The National Science Foundation (NSF) is establishing a new system of records, “Student Loan Repayment Program Case Files, NSF-82,” in connection with the recruitment of highly qualified job candidates and retention of highly qualified employees by paying off their Federally insured student loans. The agency will use this system to maintain and retrieve applications from individuals seeking such student loan repayment benefits, service agreements signed by individuals receiving such benefits, lender information, loan balances and repayment history, and other related program information and documentation for such individuals. Information in this system of records will be collected through various sources, including directly from the individual to whom the information applies, and from NSF officials, official NSF documents, student loan lenders or other agencies or third parties.

DATES: This system of records notice is effective as of January 24, 2024. The routine uses described in this notice will take effect on February 26, 2024, unless modified by a subsequent notice to incorporate comments received from the public. Submit comments on or before February 23, 2024.

ADDRESSES: You may submit comments, identified as “SORN NSF-82 (Student Loan Repayment Program),” by any of the following methods:

• Federal eRulemaking Portal: http://www.regulations.gov. Follow the instructions for submitting comments.

• Email: Jennifer Carter, Human Resources Specialist, at jecarter@nsf.gov. Include “SORN NSF-82 (Student Loan Repayment Program)” in the subject line of the message.

• Mail: Jennifer Carter, Human Resources Specialist, Division of Human Resource Management, National Science Foundation, 2415 Eisenhower Ave., Alexandria, VA 22314.

Instructions: NSF will post all comments on the NSF's website (https://www.nsf.gov/). All comments submitted in response to this Notice will become a matter of public record. Therefore, you should submit only information that you wish to make publicly available.

FOR FURTHER INFORMATION CONTACT: Jennifer Carter, Human Resources Specialist, jecarter@nsf.gov, 703-292-8060, or Sandra Evans, NSF FOIA/PA Officer, sevans@nsf.gov, 703-292-8060.

SUPPLEMENTARY INFORMATION: The Student Loan Repayment Program authority (5 U.S.C. 5379) is one of several hiring flexibilities made available to agencies to attract and retain highly qualified individuals for Federal service by allowing agencies to repay their Federally insured student loans. Individuals approved for this benefit must agree to complete a specified period of service with the agency, or to reimburse the agency if they fail to complete that term of service or violate certain other conditions of their service agreement. See 5 CFR part 537 (Office of Personnel Management (OPM) student loan repayment regulations). This NSF system of records will be used to document requests (applications) from such individuals for such repayment benefits, service agreements signed by individuals approved to receive such benefits, benefit amounts, lender and loan history, and other loan repayment or loan benefit reimbursement information (including any request to waive the reimbursement obligation) specific to each individual. Information maintained in this system will be used to administer, document, and track the repayment of these loans (or reimbursement of the loan repayment benefit, where applicable), to make individual case files available to, and prepare annual reports for, OPM on NSF's use of the student loan repayment program authority, and to seek and collect reimbursement from individuals who fail to fulfill their service obligation or violate other terms and conditions of their agreement.

SYSTEM NAME AND NUMBER:

Student Loan Repayment Program Case Files, NSF-82.

SECURITY CLASSIFICATION:

Unclassified.

SYSTEM LOCATION:

National Science Foundation (NSF), 2415 Eisenhower Ave., Alexandria, VA 22314.

SYSTEM MANAGER(S):

Branch Chief, Division of Human Resource Management, NSF, 2415 Eisenhower Ave., Alexandria, VA 22314.

AUTHORITY FOR MAINTENANCE OF THE SYSTEM:

5 U.S.C. 5379; 5 CFR part 537.

PURPOSE(S) OF THE SYSTEM:

These records are maintained in order to process requests (applications) from or on behalf of highly qualified current or prospective NSF employees for student loan repayment benefits; to determine their eligibility for such benefits; to administer and document the agency's repayment of such loans, including service agreements that these individuals must sign in order to receive loan repayment benefits; and for debt collection purposes, in the case of individuals who fails to fulfill that agreement and must reimburse the agency, if the agency does not waive that obligation. In such cases, records may be incorporated, as relevant and necessary, into NSF's Privacy Act system of delinquent debtor files, and routinely used and disclosed as described in the system of records notice (SORN) for that system, SORN NSF-57. Furthermore, where the records indicate false statements, fraud, or other possible law violations, they may also be referred to law enforcement for investigation, prosecution, or other enforcement action. The records in this system are also used by NSF to prepare reports for OPM, and to make loan repayment case records available for OPM inspection upon request, as required by 5 CFR part 537.

CATEGORIES OF INDIVIDUALS COVERED BY THE SYSTEM:

This system contains records (Including related correspondence) retrieved by the name or other identifier(s) personally assigned to individuals who have been or are being considered for student loan repayment benefits under NSF's Student Loan Repayment Program, which includes individuals who have been approved for or denied such benefits.

CATEGORIES OF RECORDS IN THE SYSTEM:

This system contains correspondence and any other documents or information relating to or resulting from requests made by highly qualified job candidates or current NSF employees, or on their behalf, to receive student loan repayment benefits from NSF. System records include: (1) Request letters from a selecting official or supervisor of the individual with supporting documentation; (2) information from or about these individuals, including names, home and work addresses, Social Security numbers, student loan account numbers, loan balances, repayment schedule, repayment history, and repayment status, and copies of their individual service agreements; (3) information about the lending institution, servicer, or other holder of an individual's student loan(s), including's name, address and telephone number; and (4) agency determinations on requests for loan repayment benefits, including whether the request was approved or denied, and any additional correspondence or other documentation relating to the administration or denial of the loan repayment benefit to the individual. Where an individual is or may be required to reimburse the agency for failure to complete the required period of service or to fulfill other conditions of their service agreement, system records may also notices, demand letters or other communications with the individual regarding that obligation, requests from or on behalf of such individuals for the agency to waive that obligation, and the agency's determination or disposition of such requests, including any referral for collection purposes, if the request is denied in whole or part.

RECORD SOURCE CATEGORIES:

Information in the system of records is obtained from the individual to whom the information applies, lending institutions holding student loans for the individual, NSF officials, and from other NSF or third-party records, as appropriate and necessary.

ROUTINE USES OF RECORDS MAINTAINED IN THE SYSTEM, INCLUDING CATEGORIES OF USERS AND PURPOSES OF SUCH USES:

The following NSF standard routine uses apply:

1. Members of Congress. Information from a system may be disclosed to congressional offices in response to inquiries from the congressional offices made at the request of the individual to whom the record pertains.

2. Freedom of Information Act/Privacy Act Compliance. Information from a system may be disclosed to the Department of Justice or the Office of Management and Budget in order to obtain advice regarding NSF's obligations under the Freedom of Information Act and the Privacy Act.

3. Counsel. Information from a system may be disclosed to NSF's legal representatives, including the Department of Justice and other outside counsel, where the agency is a party in litigation or has an interest in litigation and the information is relevant and necessary to such litigation, including when any of the following is a party to the litigation or has an interest in such litigation: (a) NSF, or any component thereof; (b) any NSF employee in his or her official capacity; (c) any NSF employee in his or her individual capacity, where the Department of Justice has agreed to, or is considering a request to, represent the employee; or (d) the United States, where NSF determines that litigation is likely to affect the agency or any of its components.

4. National Archives, General Services Administration. Information from a system may be disclosed to representatives of the General Services Administration and the National Archives and Records Administration (NARA) during the course of records management inspections conducted under the authority of 44 U.S.C. 2904 and 2906.

5. Response to an Actual or Suspected Compromise or Breach of Personally Identifiable Information. NSF may disclose information from the system to appropriate agencies, entities, and persons when: (1) NSF suspects or has confirmed that there has been a breach of the system of records; (2) NSF has determined that as a result of the suspected or confirmed breach there is a risk of harm to individuals; NSF (including its information systems, programs, and operations); the Federal Government, or national security; and (3) the disclosure made to such agencies, entities, and persons is reasonably necessary to assist in connection with NSF efforts to respond to the suspected or confirmed breach or to prevent, minimize, or remedy such harm. Furthermore, NSF may disclose information from the system to another Federal agency or Federal entity, when NSF determines that information from this system of records is reasonably necessary to assist the recipient agency or entity in: (1) Responding to a suspected or confirmed breach; or (2) preventing, minimizing, or remedying the risk of harm to individuals, the recipient agency or entity (including its information systems, programs, and operations), the Federal Government, or national security, resulting from a suspected or confirmed breach.

6. Courts. Information from a system may be disclosed to the Department of Justice or other agencies in the event of a pending court or formal administrative proceeding, when the information is relevant and necessary to that proceeding, for the purpose of representing the government, or in the course of presenting evidence, or the information may be produced to parties or counsel involved in the proceeding in the course of pre-trial discovery.

7. Contractors. Information from a system may be disclosed to contractors, agents, experts, consultants, or others performing work on a contract, service, cooperative agreement, job, or other activity for NSF and who have a need to access the information in the performance of their duties or activities for NSF.

8. Audit. Information from a system may be disclosed to government agencies and other entities authorized to perform audits, including financial and other audits, of the agency and its activities.

9. Law Enforcement. Information from a system may be disclosed, where the information indicates a violation or potential violation of civil or criminal law, including any rule, regulation or order issued pursuant thereto, to appropriate Federal, State, or local agencies responsible for investigating, prosecuting, enforcing, or implementing such statute, rule, regulation, or order.

10. Disclosure When Requesting Information. Information from a system may be disclosed to Federal, State, or local agencies which maintain civil, criminal, or other relevant enforcement information or other pertinent information, such as current licenses, if necessary, to obtain information relevant to an agency decision concerning the hiring or retention of an employee, the issuance of a security clearance, the letting of a contract, or the issuance of a license, grant, or other benefit.

11. To the news media and the public when: (1) A matter has become public knowledge, (2) the NSF Office of the Director determines that disclosure is necessary to preserve confidence in the integrity of NSF or is necessary to demonstrate the accountability of NSF's officers, employees, or individuals covered by this system, or (3) the Office of the Director determines that there exists a legitimate public interest in the disclosure of the information, except to the extent that the Office of the Director determines in any of these situations that disclosure of specific information in the context of a particular case would constitute an unwarranted invasion of personal privacy.

In addition to the above standard routine uses, the following routine uses shall apply:

12. Personnel Management Disclosure. NSF may disclose as a routine use to the U.S. Office of Personnel Management (OPM) any records or information in this system of records that OPM requests or requires pursuant to OPM's oversight and regulatory functions of this program.

13. Salary Offset or Debt Collection Disclosures. NSF may disclose records in this system to other Federal agencies, hearing or court officials, and present employers of the subject individual in order for NSF to obtain repayment, if the individual fails to complete the period of employment under a service agreement and fails to reimburse NSF the amount of any student loan repayment benefits the individual received from NSF. (Records may also be incorporated where relevant and necessary into NSF's system of delinquent debtor files, and routinely used and disclosed in accordance with the system of records (SORN) notice for that system. See SORN NSF-57, or any successor SORN.)

14. Disclosure to other Federal agencies. NSF may disclose records in this system to its payroll processing provider in order to calculate tax withholdings and disburse payments of student loan repayment benefits to loan holders on behalf of employees approved to receive this benefit.

15. Disclosure to Student Lending Institutions or Loan Holders. NSF may disclose to student lending institutions or loan holders records from this system as a routine use disclosure in order to obtain information (such as the borrower's account number, original and current loan balance, repayment schedule, repayment history, and current repayment status) to allow NSF to determine an individual's initial and continuing eligibility for this program, to facilitate accurate payments to student loan holders on behalf of eligible individuals, and to ensure NSF discontinues making student loan repayments to individuals who do not remain eligible for them during the period of the service agreement. For the same reason, and to ensure that loan payments made by the agency do not exempt an employee from his or her responsibility and/or liability for any loan(s) the individual has taken out, NSF also may disclose to loan holders records from this system of records as a routine use disclosure in the event it becomes known to NSF during the course of its program eligibility determinations that an individual is past due, delinquent, or in default of a federally insured student loan.

POLICIES AND PRACTICES FOR STORAGE OF RECORDS:

Records in this system are stored electronically in secure facilities or on paper. Electronic records are maintained in a secure password-protected environment. Permission-level assignments will allow internal agency users access only to those functions for which they are authorized. All paper records are maintained in secure, access-controlled areas or buildings. Paper records are stored in a locked drawer, behind a locked door or at a secure offsite location.

POLICIES AND PRACTICES FOR RETRIEVAL OF RECORDS:

Records are retrieved by an individual's name or other personally assigned identifier such as an email address or phone number.

POLICIES AND PRACTICES FOR RETENTION AND DISPOSAL OF RECORDS:

System records are retained and destroyed in accordance with the NARA Records Schedule 2.4; item 090 (incentive package records).

ADMINISTRATIVE, TECHNICAL, AND PHYSICAL SAFEGUARDS:

Records in this system are safeguarded in accordance with applicable law, rules, and policies, including all applicable NSF automated systems security and access policies. Strict controls have been imposed to minimize the risk of compromising the information that is being stored. Access to the computer system containing electronic records in this system is limited to those individuals who have a need to know the information for the performance of their official duties. These records are maintained in a secure password-protected environment. All users are required to take annual NSF IT Security and Privacy Awareness Training, which covers the procedures for handling Controlled Unclassified Information, including personally identifiable information (PII).

RECORD ACCESS PROCEDURES:

Individuals seeking to access information about themselves contained in this system are required to follow the procedures found at 45 CFR part 613.

CONTESTING RECORD PROCEDURES:

Individuals seeking to contest information about themselves contained in this system are required to follow the procedures found at 45 CFR part 613.

NOTIFICATION PROCEDURES:

Individuals requesting access to or contesting records contained in this system will be notified according to the procedures found at 45 CFR part 613.

EXEMPTIONS PROMULGATED FOR THE SYSTEM:

None.

HISTORY:

None.

Dated: January 19, 2024.
Suzanne H. Plimpton,
Reports Clearance Officer, National Science Foundation.

[FR Doc. 2024-01356 Filed 1-23-24; 8:45 am]

BILLING CODE 7555-01-P